NUCLEAR REGULATORY COMMISSION

[NRC-2019-0085]

Information Collection: NRC Forms 366, 366A, and 366B, “Licensee Event Report”; Correction

AGENCY: Nuclear Regulatory Commission.

ACTION: Notice of submission to the Office of Management and Budget; extension of comment period; and correction.

SUMMARY: The U.S. Nuclear Regulatory Commission (NRC) is correcting a notice that was published in the Federal Register (FR) on February 26, 2020, providing notice of submission to the Office of Management and Budget and requesting comment. This action is necessary to amend the annual responses and burden hours to include the burden and responses associated cyber security events. The NRC has decided to extend the public comment period to allow more time for members of the public to develop and submit their comments. The public comment period was originally scheduled to close on March 27, 2020.

DATES: The correction is effective March 23, 2020. The due date of comments requested in the document published on February 26, 2020 (85 FR 11126) is extended. Comments should be filed no later than April 22, 2020. Comments received after this date will be considered, if it is practical to do so, but the Commission is able to ensure consideration only for comments received on or before this date.

ADDRESSES: Submit comments directly to the OMB reviewer at: OMB Office of Information and Regulatory Affairs (3150-0104), Attn: Desk Officer for the Nuclear Regulatory Commission, 725 17th Street NW, Washington, DC 20503; email: oira_submission@omb.eop.gov.

FOR FURTHER INFORMATION CONTACT: David Cullison, NRC Clearance Officer, U.S. Nuclear Regulatory Commission, Washington, DC 20555-0001; telephone: 301-415-2084; email: INFOCOLLECTS.Resource@nrc.gov.

SUPPLEMENTARY INFORMATION: In the Federal Register on February 26, 2020, in FR Doc. 2020-03826 on page 11127, in the first column, the response to question 7 is changed from “350” to “542 (442 reporting responses plus 100 recordkeepers).” In the second column, the response to question 9 is changed from “The total estimated burden for completing Licensee Event Reports is 28,000 hours (based on 80 hours for each of 350 reports).” to “The total estimated burden from completing Licensee Event Reports is 35,360 hours (28,288 hours reporting plus 7,072 hours recordkeeping).”

Dated at Rockville, Maryland, this 18th day of March 2020.
For the Nuclear Regulatory Commission.
David C. Cullison,
NRC Clearance Officer, Office of the Chief Information Officer.

[FR Doc. 2020-06064 Filed 3-20-20; 8:45 am]

BILLING CODE 7590-01-P